DEPARTMENT OF THE INTERIOR

Bureau of Land Management

[NV-065-5870-EU; N-74961]

Notice of Realty Action: Direct (Non-Competitive) Sale of Public Lands, Esmeralda County, NV

AGENCY: Bureau of Land Management, Interior.

ACTION: Notice of Realty Action.

SUMMARY: A 16.06 acre parcel of public land located near Dyer, Esmeralda County, Nevada, has been examined and found suitable for sale utilizing direct sale procedures. The authority for the sale is found under sections 203 and 209 of the Federal Land Policy and Management Act of 1976 (FLPMA) [Pub. L. 94-579].

DATES: Comments regarding the proposed sale or the environmental assessment (EA) must be received by the Bureau of Land Management (BLM) on or before December 4, 2006.

ADDRESSES: Comments regarding the proposed sale or EA, should be addressed to the Assistant Field Manager, BLM Tonopah Field Station, 1553 South Main Street, P.O. Box 911, Tonopah, Nevada 89049.

FOR FURTHER INFORMATION CONTACT: Information regarding the proposed sale and the lands involved, can be obtained at the public reception desk at the BLM, Tonopah Field Station from 7:30 a.m. to 4:30 p.m., Monday through Friday (except Federal holidays), or by contacting Wendy Seley, Realty Specialist, at the above address, or at (775) 482-7800 or by e-mail at wseley@nv.blm.gov. For general information on BLM's public land sale procedures, refer to the following Web address: http://www.blm.gov/nhp/what/lands/realty/sales.htm.

SUPPLEMENTARY INFORMATION: The land is located approximately two miles west of Dyer, Nevada, and lies on the west side of Fish Lake Valley, Nevada.

Mount Diablo Meridian, Nevada

T. 3 S., R. 35 E.,

Sec. 21, Lots 8, 9, 10, and 11.

The area described contains 16.06 acres, more or less, in Esmeralda County.

This parcel of public land is being offered for sale to Della Patterson of Dyer, Nevada, at no less than the appraised fair market value (FMV) of $56,000.00, as determined by the authorized officer after appraisal. An appraisal report has been prepared by a state certified appraiser for the purposes of establishing FMV.

These lands meet the criteria for direct sale, under 43 CFR 2711.3-3(a)(5), to resolve inadvertent unauthorized use and occupancy of the lands. Multiple dwellings, old cars, car parts, and a corral occupy the subject land. The size of the unauthorized use has been reduced to the smallest aliquot part identified through development of a supplemental plat. These lands are not required for Federal purposes. The disposal (sale) of the parcel would serve an important public objective by resolving the management costs of an inadvertent unauthorized use of the public lands. As such, these lands meet the criteria found under Title 43 CFR 2710.0-3(a)(3) which states “Such tract, because of its location or other characteristics is difficult and uneconomic to manage as part of the public lands and is not suitable for management by another Federal department or agency.” Direct sale would not change the status quo in that no other land uses are expected for these lands. These lands are identified as suitable for disposal in the BLM Tonopah Resource Management Plan (RMP) approved in October 1997. The proposed disposal action is consistent with the objectives, goals, and decisions of the RMP.

The BLM provided a 30-day comment period for the preliminary EA as part of its public involvement. All comments received have been considered and incorporated into the EA and Decision Record. The environmental assessment, EA Number NV065-EA06-066, Decision Record, Environmental Site Assessment, map, and approved appraisal report covering the proposed sale, are available for review at the BLM, Tonopah Field Station, Tonopah, Nevada.

Segregation

Publication of this Notice in the Federal Register segregates the subject lands from all appropriations under the public land laws, including the general mining laws, except sale under the Federal Land Policy and Management Act of 1976. The segregation will terminate upon issuance of the patent, upon publication in the Federal Register of a termination of the segregation or July 16, 2007, which ever occurs first.

Terms and Conditions of Sale

The patent issued would contain the following reservations, covenants, terms and conditions:

1. A right-of-way thereon for ditches and canals constructed by authority of the United States, Act of August 30, 1890 (43 U.S.C. 945).

2. Oil, gas, and geothermal resources are reserved on the land sold; permittees, licensees, and lessees retain the right to prospect for, mine, and remove the minerals owned by the United States under applicable law and any regulations that the Secretary of the Interior may prescribe, including all necessary access and exit rights.

3. All existing and valid land uses, including livestock grazing leases, unless waived.

4. Valid existing rights.

5. The purchaser/patentee, by accepting patent, agrees to indemnify, defend, and hold the United States harmless from any costs, damages, claims, causes of action, penalties, fines, liabilities, and judgments of any kind arising from the past, present or future acts or omissions of the patentee, its employees, agents, contractors, or lessees, or any third party arising out of or in connection with the patentee's use and/or occupancy of the patented real property resulting in: (1) Violations of Federal, State, and local laws and regulations that are now, or in the future become, applicable to the real property; (2) Judgments, claims or demands of any kind assessed against the United States; (3) Costs, expenses, or damages of any kind incurred by the United States; (4) Releases or threatened releases of solid or hazardous waste(s) and/or hazardous substances(s), as defined by Federal or State environmental laws, off, on, into or under land, property, and other interests of the United States; (5) Other activities by which solids or hazardous substances or wastes, as defined by Federal and State environmental laws are generated, released, stored, used, or otherwise disposed of on the patented real property, and any cleanup response, remedial action or other actions related in any manner to said solid or hazardous substances or wastes; or (6) Natural resource damages as defined by Federal and State law. This covenant shall be construed as running with the patented real property and may be enforced by the United States in a court of competent jurisdiction.

6. Pursuant to the requirements established by section 120(h) of the Comprehensive Environmental Response, Compensation and Liability Act (CERCLA), (42 U.S.C. 9620(h)), as amended by the Superfund Amendments and Reauthorization Act of 1988, (100 Stat.1670), notice is hereby given that the above-described lands have been examined and no evidence was found to indicate that any hazardous substances have been stored for one year or more, nor had any hazardous substances been disposed of or released on the subject property.

No warranty of any kind, express or implied, is given by the United States as to the title, physical condition or potential uses of the parcel of land proposed for sale, and the conveyance of any such parcel will not be on a contingency basis. It is the buyer's responsibility to be aware of all applicable local government policies and regulations that would affect the subject lands. It is also the buyer's responsibility to be aware of existing or prospective uses of nearby properties. Any land lacking access from a public road or highway will be conveyed as such, and future access acquisition will be the responsibility of the buyer.

In the event of a sale, the unreserved mineral interests will be conveyed simultaneously with the sale of the land. These unreserved mineral interests have been determined to have no known mineral value pursuant to 43 CFR 2720.2(a). Acceptance of the sale offer will constitute an application for conveyance of those unreserved mineral interests. The purchaser will be required to pay a $50.00 non-refundable filing fee for conveyance of the available mineral interests. The purchaser will have 30 days from the date of receiving the sale offer to accept the offer and to submit a deposit of 20 percent of the purchase price, the $50.00 filing fee for conveyance of mineral interests, and for payment of publication costs. The purchaser must remit the remainder of the purchase price within 180 days from the date the sale offer is received. Payments must be by certified check, postal money order, bank draft or cashiers check. payable to the U.S. Department of the Interior—BLM. Failure to meet conditions established for this sale will void the sale and any monies received will be forfeited.

Public Comments

The subject parcel of land will not be offered for sale prior to the 60-day publication of this notice of realty action. For a period until December 4, 2006, interested parties may submit written comments to the BLM Tonopah Field Station, P.O. Box 911, Tonopah, Nevada 89049. Facsimiles, telephone calls, and electronic mails are unacceptable means of notification. Comments including names and street addresses of respondents will be available for public review at the Tonopah Field Station during regular business hours, except holidays. Individual respondents may request confidentiality. If you wish to withhold your name or address from public disclosure under the Freedom of Information Act, you must state this prominently at the beginning of your comments. Any determination by the BLM to release or withhold the names and/or addresses of those who comment will be made on a case-by-case basis. Such requests will be honored to the extent allowed by law.

Any adverse comments will be reviewed by the Nevada State Director, who may sustain, vacate, or modify this realty action and issue a final determination. In the absence of timely filed objections, this realty action will become the final determination of the Department of the Interior.

(Authority: 43 CFR 2711.1-2(a))

Dated: August 31, 2006.
Alan R. Buehler,
Acting Assistant Field Manager, Tonopah.

[FR Doc. E6-17399 Filed 10-18-06; 8:45 am]

BILLING CODE 4310-HC-P